DEPARTMENT OF HOMELAND SECURITY

Coast Guard

33 CFR Part 165

[Docket No. USCG-2021-0368]

Special Local Regulations; City of North Charleston Fireworks; Charleston, SC

AGENCY: Coast Guard, DHS.

ACTION: Notice of enforcement of regulation.

SUMMARY: The Coast Guard will enforce a special local regulation for the City of North Charleston's Fireworks Display on July 4, 2021 from 8 p.m. until 10 p.m., to provide for the safety of life on navigable waterways during the event. The Coast Guard will enforce a temporary safety zone during the City of North Charleston's Fireworks Display occurring at Waterfront Park on the Cooper River, in Charleston, South Carolina. The temporary safety zone is necessary to protect vessels, spectators, and the general public during the event. During the enforcement period, no person or vessel may enter, transit through, anchor in, or remain within the designated area unless authorized by the Captain of the Port Charleston (COTP) or a designated representative.

DATES: The regulation in 33 CFR 100.704, Table 1 to § 100.704, Item No. (5), will be enforced from 8 p.m. until 10 p.m. on July 4, 2021.

FOR FURTHER INFORMATION CONTACT: If you have questions about this proposed rulemaking, call or email Lieutenant Commander Chad Ray, Sector Charleston Office of Waterways Management, Coast Guard; telephone (843) 740-3184, email Chad.L.Ray@uscg.mil.

SUPPLEMENTARY INFORMATION: The Coast Guard will enforce the special local regulation in 33 CFR 100.704, Table 1 to § 100.704, Item No. (5), for the City of North Charleston's Fireworks Display on July 4, 2021 from 8 p.m. to 10 p.m. This action is being taken to provide for the safety of life on navigable waterways during this event. The regulation in § 100.704, Table 1 to § 100.704, Item No. (5), specifies the location of the regulated area for the City of North Charleston's Fireworks Display, which encompasses a portion of the Cooper River at River Front Park in Charleston, South Carolina. During the enforcement periods, as reflected in § 100.704(c)(1), if you are the operator of a vessel in the regulated area you must comply with directions of the COTP Charleston or from his designated representative, including the Patrol Commander or any Official Patrol displaying a Coast Guard ensign.

In addition to this notice of enforcement in the Federal Register, the Coast Guard plans to provide notification of this enforcement period via the Local Notice to Mariners, Broadcast Notice to Mariners, and on-scene designated representatives.

Dated: June 17, 2021.
J.D. Cole,
Captain, U.S. Coast Guard, Captain of the Port Charleston.

[FR Doc. 2021-13255 Filed 6-23-21; 8:45 am]

BILLING CODE 9110-04-P